SOCIAL SECURITY ADMINISTRATION

Agency Information Collection Activities: Emergency Clearance Request

The Social Security Administration (SSA) publishes a list of information collection packages requiring clearance by the Office of Management and Budget (OMB) in compliance with Public Law 104-13, the Paperwork Reduction Act of 1995, effective October 1, 1995. This notice includes a new collection.

SSA is soliciting comments on the accuracy of the agency's burden estimate; the need for the information; its practical utility; ways to enhance its quality, utility, and clarity; and ways to minimize burden on respondents, including the use of automated collection techniques or other forms of information technology. Mail, e-mail, or fax your comments and recommendations on the information collection to the OMB Desk Officer and SSA Reports Clearance Officer to the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

SSA submitted the information collection below to OMB for Emergency Clearance. SSA is requesting Emergency Clearance from OMB no later than April 5, 2011. Individuals can obtain copies of the collection instrument by calling the SSA Reports Clearance Officer at 410-965-8783 or by writing to the above e-mail address.

Statement of Claimant or Other Person-Medical Resident Federal Insurance Contributions Act (FICA) Refund Claims—20 CFR 404.702 and 416.570—0960-NEW

Background

A recent Internal Revenue Service (IRS) ruling allows doctors who worked as medical residents from 1993 through 2005 to consider their residencies to be student training, not employment. Accordingly, these doctors may request a FICA refund from IRS for those years. However, if they choose this option, SSA will remove their earnings for those years from their earnings records, ultimately reducing their Social Security benefits.

Information Collection Description

SSA will conduct outreach with those medical residents (or their survivors, next of kin, representative payees, etc.) who (1) meet the above criteria, (2) are currently entitled to Social Security benefits, and (3) will experience a reduction of their benefits if they request the FICA refund. SSA will call the affected beneficiaries, and explain how accepting the refund would affect their Social Security benefits. We will then mail form SSA-795-OP2 and ask them to confirm or change their decision to receive the FICA refund and have SSA reduce their earnings records accordingly. If SSA cannot first reach the respondents by phone, we will mail them an explanatory letter together with form SSA-795-OP2.

The respondents for this collection are beneficiaries who served as medical residents from 1993 through 2005 and who filed a request with IRS for a FICA refund for those years. The collection is voluntary; if SSA does not receive a response, IRS will assume the original request for a FICA refund stands.

Emergency Clearance

Because IRS is holding the FICA refund payments until we receive confirmation from the respondents of their decision, we are requesting emergency OMB approval for this collection. We will undergo the standard OMB clearance process after receiving emergency approval.

Type of Request: Request for a new information collection.

Number of Respondents: 496.

Frequency of Response: 1.

Average Burden per Response: 4 minutes.

Estimated Annual Burden: 33 hours.

Dated: March 28, 2011.
Faye Lipsky,
Reports Clearance Officer, Center for Reports Clearance, Social Security Administration.

[FR Doc. 2011-7591 Filed 3-30-11; 8:45 am]

BILLING CODE 4191-02-P